DEPARTMENT OF ENERGY

Federal Energy Regulatory Commission

[Docket No. EL14-20-000]

Independent Market Monitor for PJM v. PJM Interconnection, L.L.C.; Notice of Complaint

Take notice that on January 27, 2014, pursuant to section 206 of the Rules and Practice and Procedure of the Federal Energy Regulatory Commission (Commission), 18 CFR 385.206 (2013), Independent Market Monitor for PJM (Market Monitor or Complainant), filed a formal complaint against PJM Interconnection, L.L.C. (PJM or Respondent) requesting that the Commission direct PJM to include rules in the tariff that provide: (i) A requirement that Demand Resources (DR) must offer daily into the PJM Day-Ahead Energy Market, and (ii) a cap on offers from DR at $1,000 per MWh, consistent with the offer cap applicable to Generation Capacity Resources.

The Complainant states that copies of the complaint were served on representatives of PJM and served to the parties in Docket No. ER14-822-000.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 18, 2014.

Dated: January 28, 2014.
Kimberly D. Bose,
Secretary.

[FR Doc. 2014-02373 Filed 2-4-14; 8:45 am]

BILLING CODE 6717-01-P